DEPARTMENT OF COMMERCE

National Oceanic and Atmospheric Administration

50 CFR Part 660

[Docket No. 241022-0278]

RIN 0648-BN72

Magnuson-Stevens Act Provisions; Fisheries Off West Coast States; Pacific Coast Groundfish Fishery; 2025-2026 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in commercial and recreational groundfish fisheries. This action is intended to allow commercial and recreational fishing vessels to access more abundant groundfish stocks while protecting overfished and depleted stocks.

DATES: This final rule is effective April 16, 2025.

FOR FURTHER INFORMATION CONTACT: Christopher Biegel, 503-231-6291, christopher.biegel@noaa.gov.

Electronic Access

This rule is accessible via the internet at the Office of the Federal Register website at https://www.federalregister.gov. Background information and documents are available at the Pacific Fishery Management Council's website at https://www.pcouncil.org/.

SUPPLEMENTARY INFORMATION:

Background

The Pacific Coast Groundfish Fishery Management Plan (PCGFMP) and its implementing regulations at title 50 in the Code of Federal Regulations (CFR), part 660, subparts C through G, regulate fishing for over 90 species of groundfish off the coasts of Washington, Oregon, and California. The Pacific Fishery Management Council (Council) develops groundfish harvest specifications and management measures for 2-year periods (i.e., a biennium). NMFS published the final rule to implement harvest specifications and management measures for the 2025-2026 biennium for most species managed under the PCGFMP on December 16, 2024 (89 FR 101514). In general, the management measures set at the start of the biennial harvest specifications cycle help the various sectors of the fishery attain, but not exceed, the catch limits for each stock. The Council, in coordination with Pacific Coast Treaty Indian Tribes and the States of Washington, Oregon, and California, recommends adjustments to the management measures during the fishing year to achieve this goal.

At its March 4-11, 2025 meeting, the Council recommended two inseason actions for the Pacific Coast groundfish fishery. The first involves the recreational groundfish limit in the long-leader fishery off Oregon and the second involves the trip limit of incidental halibut caught in the sablefish fishery.

Long-Leader Fishery

During the 2025-26 biennial process, the Council adopted a five-fish sub-bag limit for canary rockfish in the Oregon recreational long-leader fishery. Since the completion of the biennial process, Oregon Department of Fish and Wildlife (ODFW) staff examined data through 2023 and most of 2024. Based on catch rates of canary rockfish in the long-leader gear fishery, the sub-bag limit needs to be decreased to reduce the chance of the Oregon recreational share of canary rockfish being exceeded. In December 2024, the Oregon Fish and Wildlife Commission adopted a one-fish sub-bag limit for canary rockfish in the recreational long-leader gear fishery off Oregon beginning January 1, 2025. The ODFW requested conforming Federal action to reduce the sub-bag limit from five fish to one fish for canary rockfish, as effort in the long-leader gear fishery occurs primarily in Federal waters.

The Council moved, and NMFS is implementing, a decrease in the sub-bag limit for canary rockfish from five fish to one fish in the recreational Oregon long-leader gear fishery as recommended by ODFW.

Incidental Halibut

At the March Council meeting, the Groundfish Advisory Subpanel (GAP) recommended the Pacific halibut incidental landing limit for the primary sablefish fishery north of Point Chehalis be 75 pounds of halibut per 1,000 pounds of dressed sablefish plus two halibut. This is a reduction from the 150 pounds of halibut per 1,000 pounds of dressed sablefish in 2024. The reduction was recommended due to the large increase in sablefish harvest limits of about 238 percent. The 2025 allotment of Pacific halibut for this sector is 70,000 pounds which could be quickly harvested by just a few top primary tier vessels if a reduction in incidental halibut is not implemented. Lowering the halibut limit will allow more vessels to participate in the fishery and for the fishery to continue throughout the year without exceeding the halibut allocation. Therefore, the Council moved and NMFS is implementing a trip limit of 75 pounds of Pacific halibut per 1,000 pounds of sablefish plus two additional Pacific halibut for the primary fixed gear sablefish fishery north of Point Chehalis, Washington, as recommended in the supplementary GAP Report 1, March 2025.

Classification

This final rule makes routine inseason adjustments to groundfish fishery management measures, based on the best scientific information available, consistent with the PCGFMP and its implementing regulations.

This action is taken under the authority of 50 CFR 660.60(c) and is exempt from review under Executive Order 12866.

The aggregate data upon which these actions are based are available for public inspection by contacting Christopher Biegel in NMFS West Coast Region (see FOR FURTHER INFORMATION CONTACT section above), or view at the NMFS West Coast Groundfish website: https://www.westcoast.fisheries.noaa.gov/fisheries/groundfish/index.html.

Pursuant to 5 U.S.C. 553(b), NMFS finds good cause to waive prior public notice and an opportunity for public comment on this action, as notice and comment would be impracticable and contrary to the public interest. The adjustments to management measures in this document are designed to keep catch within allocations established by the 2025-2026 harvest specifications. No aspect of this action is controversial, and changes of this nature were anticipated in the final rule for the 2025-2026 harvest specifications and management measures, which published on December 16, 2024 (89 FR 101514).

The Council recommended, and NMFS is implementing, a decrease to the recreational long-leader sub-bag limit for canary rockfish off of the Oregon coast from five fish to one fish to be consistent with the ODFW bag limit. Additionally, the Council recommended and NMFS is implementing a trip limit of 75 pounds of Pacific halibut per 1,000 pounds of sablefish plus two additional Pacific halibut for the primary fixed gear sablefish fishery north of Point Chehalis, Washington.

These inseason changes are in response to new information about the fishery, and to conservation issues that need to be addressed for the 2025 fishing year. Delaying implementation to allow for public comment would impact NMFS's ability to keep the fishery within catch targets set for sustainable fishing. For these same reasons, NMFS finds reason to waive the 30-day delay in effectiveness pursuant to 5 U.S.C. 553(d)(1) so that this final rule may become effective upon publication in the Federal Register. These adjustments were requested by the Council's advisory bodies, as well as members of industry during the Council's March 2025 meeting, and recommended unanimously by the Council. No aspect of this action is controversial, and changes of this nature were anticipated in the biennial harvest specifications and management measures for 2025-2026 (89 FR 101514) which were established through a notice and comment rulemaking.

List of Subjects in 50 CFR Part 660

Fisheries, Fishing, Indian Fisheries.

Dated: April 10, 2025.
Kelly Denit,
Acting Director, Office of Sustainable Fisheries, National Marine Fisheries Service.

For the reasons set out in the preamble, NMFS amends 50 CFR part 660 as follows:

PART 660--FISHERIES OFF WEST COAST STATES

1. The authority citation for part 660 continues to read as follows:

Authority: 16 U.S.C. 1801 et seq., 16 U.S.C. 773 et seq., and 16 U.S.C. 7001 et seq.

2. In § 660.231, revise paragraph (b)(3)(iv) to read as follows:

§ 660.231 Limited entry fixed gear sablefish primary fishery.

* * * * *

(b) * * *

(3) * * *

(iv) Incidental Pacific halibut retention north of Pt. Chehalis, WA (lat. 46°53.30′ N). Pacific halibut may be retained north of Pt. Chehalis by vessels participating in the sablefish primary fishery with the requisite Pacific halibut commercial fishery permit. Pacific halibut incidentally caught in the primary sablefish fishery when using bottom longline gear may be retained from April 1 through the Pacific halibut commercial fishing closure date set by the International Pacific Halibut Commission. Vessels permitted as described in this section may possess and land up to 75 lb (34 kg) dressed weight of Pacific halibut for every 1,000 lb (454 kg) dressed weight of sablefish landed, plus two additional Pacific halibut. Pacific halibut retained as described in this section may not be possessed or landed south of Pt. Chehalis.

* * * * *

3. In § 660.360, revise paragraph (c)(2)(iii)(A) to read as follows:

§ 660.360 Recreational fishery—management measures.

* * * * *

(c) * * *

(2) * * *

(iii) * * *

(A) Marine fish. The bag limit is 10 marine fish per day, which includes rockfish, kelp greenling, cabezon, and other groundfish species; except the daily bag limit in the long-leader gear fishery is 12 fish per day with a sub-bag limit of 1 fish per day for canary rockfish. The bag limit of marine fish excludes Pacific halibut, salmonids, tuna, perch species, sturgeon, sanddabs, flatfish, lingcod, striped bass, hybrid bass, offshore pelagic species, and baitfish (e.g., herring, smelt, anchovies, and sardines). The minimum size for cabezon retained in the Oregon recreational fishery is 16 in (41 cm) total length.

* * * * *

[FR Doc. 2025-06443 Filed 4-15-25; 8:45 am]

BILLING CODE 3510-22-P